POSTAL SERVICE

39 CFR Part 111

Repositionable Notes Transitioned from an Experimental Test to a Permanent Classification

AGENCY: Postal Service™.

ACTION: Final rule.

SUMMARY: On February 27, 2008, the Postal Service™, in accordance with the Postal Accountability and Enhancement Act, gave notice to the Postal Regulatory Commission, that the Governors of the Postal Service established Repositionable Notes (RPNs) as a permanent classification. The 3″ by 3″ removable, paper notes are an optional feature for commercial First-Class Mail®, Periodicals, and Standard Mail®.

DATES: Effective Date: May 15, 2008.

FOR FURTHER INFORMATION CONTACT: Carol A. Lunkins at 202-268-7262.

SUPPLEMENTARY INFORMATION: Over a three-year testing period, RPNs have proven compatible with postal automation letter and flat processing equipment. The removable notes can be mailed on postcards, envelopes, flats, catalogs, magazines, and newspapers to highlight important information or special offers. The notes are easily removed so that customers can keep the information handy.

RPNs add to the value of mail as an advertising medium and contribute directly to net postal revenue. The use of RPNs has aided postal customers with increasing brand awareness and generated sales and repeat business for their organizations.

The Postal Service adopts the following changes to the Mailing Standards of the United States Postal Service, Domestic Mail Manual (DMM®), which is incorporated by reference in the Code of Federal Regulations. See 39 CFR 111.1.

List of Subjects in 39 CFR Part 111

Administrative practice and procedure, Postal Service.

Accordingly, 39 CFR part 111 is amended as follows:

PART 111—[AMENDED]

1. The authority citation for 39 CFR part 111 continues to read as follows:

Authority: 5 U.S.C. 552(a); 39 U.S.C. 101, 401, 403, 404, 414, 416, 3001-3011, 3201-3219, 3403-3406, 3621, 3622, 3626, 3632, 3633, and 5001.

2. Revise the following sections of the Mailing Standards of the United States Postal Service, Domestic Mail Manual (DMM) as follows:

* * * * *

700 Special Standards

* * * * *

705 Advanced Preparation and Special Postage Payment Systems

* * * * *

[Add new 21.0 Repositionable Notes section, as follows:]

21.0 Repositionable Notes (RPNs)

21.1 Use

RPNs must meet all of the following standards:

a. RPNs may be attached to letter- and flat-size commercial First-Class Mail, Standard Mail, and Periodicals mailpieces.

b. For letter-size mailpieces, attach a single RPN to the address side of the mailpiece as specified in Exhibit 21.1b.

Exhibit 21.1b Placing RPNs on Letters

[See exhibit on Postal Explorer at pe.usps.com by clicking onFederal Register Notices” in the left frame.

c. For flat-size mailpieces, a single RPN may be attached to either the address side or nonaddress side of the mailpiece and attached in the locations described and shown in Exhibit 21.3g1 and Exhibit 21.3g2.

d. RPNs are included as an integral part of the mailpiece for weight and postage price computation purposes.

e. The written and graphic characteristics of the notes are considered when determining eligibility of mailpieces mailed at the Standard Mail and Nonprofit Standard Mail prices.

f. Attach the RPNs to all pieces in the mailing.

21.2 Mailpiece Characteristics

Each mailpiece must:

a. Not be in a plastic wrapper (e.g., polybag, polywrap, or shrinkwrap).

b. Be letter-size (including cards) or flat-size.

21.3 RPN Characteristics

RPNs must:

a. Measure 3 inches by 3 inches, plus or minus ⅛ inch for either dimension.

b. Not contain phosphorescent or red fluorescent colorants.

c. Be adhered with a minimum of ¾ inch (with a tolerance of 1/16 inch) adhesive strip across the top portion on the reverse side of the note.

d. Not be placed in a manner that interferes with the delivery address, price markings, or postage and must not display a specific address or ZIP Code. References to general landmarks are permissible.

e. Not be manually affixed.

f. On letter-size mailpieces:

1. Position the RPN parallel with the length of the mailpiece.

2. Affix RPNs with labeling equipment to ensure adequate adhesion.

3. Place the RPN to the left of the delivery address, no closer than ⅜ inch from the left edge of the delivery address.

4. Place the RPN at least ½ inch (with a tolerance of ⅛ inch) from the bottom and left edges of the mailpiece.

g. On flat-size mailpieces:

1. Affix RPNs with labeling equipment to ensure adequate adhesion.

2. If the RPN is placed on the address side of the mailpiece, position the RPN according to Exhibit 21.3g1.

Exhibit 21.3g1 Placing RPNs on Flats—Address Side

[See exhibit on Postal Explorer at pe.usps.com by clicking on “Federal Register Notices'' in the left frame.]

2. If the RPN is placed on the nonaddressed side of the mailpiece, position the RPN according to Exhibit 21.3g2.

Exhibit 21.3g2 Placing RPNs on Flats—Nonaddress Side

[See exhibit on Postal Explorer at pe.usps.com by clicking on “Federal Register Notices'' in the left frame.]

21.4 RPNs on Automation-Price Mailpieces

21.4.1 Letter-Size Mailpieces

Letter-size mailpieces with RPNs claiming automation prices must meet the standards in 21.1 through 21.3, 201.3.0, and the following additional standards:

a. Each mailpiece must be rectangular and have a surface smoothness of 195 Shefield Units or smoother.

b. Enveloped mailpieces. Each mailpiece prepared in an envelope must be constructed from paperstock having a basis weight of 20 pounds or greater.

Window envelopes must have a closed panel made of polystyrene or glassine. Each enveloped mailpiece is limited to the following dimensions:

1. For height, no less than 4⅛ inches and no more than 6 inches high.

2. For length, no less than 8 inches and no more than 9½ inches long.

3. For thickness, no less than 0.02 inch and no more than 0.125 inch thick.

c. Oversize cards. Each mailpiece prepared as an oversize card is limited to the following dimensions:

1. For height, no less than 4½ inches and no more than 6 inches high.

2. For length, no less than 8½ inches and no more than 9 inches long.

3. For thickness, no less than 0.009 inch thick (cards 5¾ inches or more in height must be no less than 0.012 inch thick.)

21.4.2 Flat-Size Mailpieces

Flat-size mailpieces with RPNs claiming automation prices must meet the standards in 21.1 through 21.3 and 301.3.0.

21.5 Prices

First-Class Mail letters and flats—$0.005

Periodicals letters and flats—$0.015

Standard Mail letters and flats—$0.015

21.6 Compliance

[Revise the text of 21.6a and 21.6b, as follows:]

Mailers must comply as follows:

a. RPNs must be obtained from an approved RPN vendor (see www.usps.com for a listing of approved vendors). Prospective vendors can obtain USPS standards and test procedures from USPS Engineering (see 608.8.0 for address). Testing must be performed by a certified independent laboratory.

b. Mailers must present evidence at the time of mailing to show that their RPNs have been supplied by an approved vendor. The vendor name on the reverse side of the note will be sufficient as evidence; in lieu of the vendor name printed on the notes, an invoice from the approved vendor for purchase of the RPNs will constitute such evidence.

c. As part of each mailing, mailers must include two pieces addressed to the manager, USPS Engineering Letter Technology, Attn: RPN Sample (see 608.8.0 for address).

* * * * *

[Revise the title of 709, as follows:]

709 Experimental Classifications and Prices

* * * * *

[Delete 3.0 in its entirety]

* * * * *

Neva R. Watson,
Attorney, Legislative.

[FR Doc. E8-10420 Filed 5-15-08; 8:45 am]

BILLING CODE 7710-12-P